DEPARTMENT OF LABOR

Mine Safety and Health Administration

Petitions for Modification

The following parties have filed petitions to modify the application of mandatory safety standards under section 101(c) of the Federal Mine Safety and Health Act of 1977.

1. Energy Fuels Coal, Inc.

[Docket No. M-2000-020-C]

Energy Fuels Coal, Inc., P.O. Box 459, 1190 County Rd 92, Florence, Colorado 91226 has filed a petition to modify the application of 30 CFR 75.1909(1) (nonpermissible diesel-powered equipment; design and performance requirements) to its Southfield Mine (I.D. No. 05-03455) located in Fremont County, Colorado. The petitioner proposes to use a diesel engine to power its genset. The petitioner proposes to use the diesel-powered genset to move equipment from section to section, and to power a roof bolter used in roof rehabilitation in remote areas of the mine. The petitioner asserts that the proposed alternative method would provide at least the same measure of protection as the mandatory standard.

2. Sugar Camp Coal, LLC

[Docket No. M-2000-021-C]

Sugar Camp Coal, LLC, 1055 Barrett Cemetery Road, Equality, Illinois 62934 has filed a petition to modify the application of 30 CFR 75.350 (air courses and belt haulage entries) to its Willow Lake Mine (I.D. No. 11-03054) located in Saline County, Illinois. The petitioner requests a modification of the standard to allow air coursed through belt haulage entries to be used to ventilate active working places. The petitioner proposes to install a low-level carbon monoxide detection system in the supply road with branches extended to the belt line at certain locations as an early warning fire detection system. The petitioner asserts that the proposed alternative method would provide at least the same measure of protection as the mandatory standard.

3. Black Beauty Coal Company

[Docket No. M-2000-022-C]

Black Beauty Coal Company, P.O. Box 176, Wheatland, Indiana 47597 has filed a petition to modify the application of 30 CFR 75.1909(b)(6) (nonpermissible diesel-powered equipment; design and performance requirements) to its Air Quality Mine (I.D. No. 12-02010) located in Knox County, Indiana. The petitioner proposes to limit the minimum speed of the grader to less than 10 mph, provide training for the grader operators on lowering the moldboard for additional stopping capability in emergency situations, and on recognizing the appropriate speeds to use on different roadway conditions and slopes, instead of installing front wheel brakes on its “Getman” six-wheeled grader. The petitioner asserts that the proposed alternative method would provide at least the same measure of protection as the mandatory standard.

4. Crystal Fuels Company

[Docket No. M-2000-023-C]

Crystal Fuels Company, P.O. Box 722, Matewan, West Virginia 25678 has filed a petition to modify the application of 30 CFR 75.1103 (automatic fire warning devices) to its No. 1 Mine (I.D. No. 46-03408) located in Mingo County, West Virginia. The petitioner proposes to install a low-level carbon monoxide detection system in all belt entries as an early warning fire detection system instead of using a monitoring systems that identify each belt flight. The petitioner asserts that the proposed alternative method would provide at least the same measure of protection as the mandatory standard.

5. Webster County Coal, LLC

[Docket No. M-2000-024-C]

Webster County Coal, LLC, 2668 Street, Rt. 120 E., Providence, Kentucky 42450 has filed a petition to modify the application of 30 CFR 75.333 (ventilation controls) to its Dotiki Mine (I.D. No. 15-02132) located in Webster County, Kentucky. The petitioner requests a modification of the standard to permit a temporary stopping in the return stopping line, outby the section tailpiece, for a short period of time prior to the section moving from entries to rooms instead of using a permanent type stopping. The petitioner asserts that the proposed alternative method would provide at least the same measure of protection as the mandatory standard and that application of the existing standard will result in a diminution of safety to the miners.

6. West Ridge Resources, Inc.

[Docket No. M-2000-025-C]

West Ridge Resources, Inc., P.O. Box 902, Price, Utah 84501 has filed a petition to modify the application of 30 CFR 75.1909(b)(6) (nonpermissible diesel-powered equipment; design and performance requirements) to its West Ridge Mine (I.D. No. 42-02233) located in Carbon County, Utah. The petitioner proposes to install devices such as gear lock-outs on its diesel grader to limit the speed to a maximum of 10 miles per hour when the grader is operating in an underground coal mine or on the surface of an underground coal mine, and provide training to every miner who operates the grader on the proper techniques for lowering the blade to restrict the speed and to stop the grader, on the proper gear selection for grading, and on the proper speed for grading. The petitioner asserts that the proposed alternative method would provide at least the same measure of protection as the mandatory standard.

7. Andalex Resources, Inc.

[Docket No. M-2000-026-C]

Andalex Resources, Inc., P.O. Box 902, Price, Utah 84501 has filed a petition to modify the application of 30 CFR 75.1909(b)(6) (nonpermissible diesel-powered equipment; design and performance requirements) to its Aberdeen Mine (I.D. No. 42-02028) and its Pinnacle Mine (I.D. No. 42-01474) both located in Carbon County, Utah. The petitioner proposes to install devices such as gear lock-outs on its diesel grader in order to limit the speed to a maximum of 10 miles per hour when the grader is operating in an underground or on the surface of an underground coal mine, and provide training to every miner who operates the grader on the proper techniques for lowering the blade to restrict the speed and to stop the grader, on the proper gear selection for grading, and on the proper speed for grading. The petitioner asserts that the proposed alternative method would provide at least the same measure of protection as the mandatory standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before May 15, 2000. Copies of these petitions are available for inspection at that address.

Dated: March 28, 2000.
Carol J. Jones,
Director, Office of Standards Regulations, and Variances.

[FR Doc. 00-9023 Filed 4-12-00; 8:45 am]

BILLING CODE 4510-43-U